ENVIRONMENTAL PROTECTION AGENCY

[EPA-HQ-OAR-2007-1196; FRL-9469-01-OAR]

Recent Postings of Broadly Applicable Alternative Test Methods

AGENCY: Environmental Protection Agency (EPA).

ACTION: Notice of availability.

SUMMARY: This notice announces the broadly applicable alternative test method approval decisions that the Environmental Protection Agency (EPA) made under and in support of New Source Performance Standards (NSPS) and the National Emission Standards for Hazardous Air Pollutants (NESHAP) between January 1, 2021, and December 31, 2021.

FOR FURTHER INFORMATION CONTACT: An electronic copy of each alternative test method approval document is available at https://www.epa.gov/emc/broadly-applicable-approved-alternative-test-methods. For questions about this notice, contact Mrs. Lula H. Melton, Air Quality Assessment Division, Office of Air Quality Planning and Standards (E143-02), Environmental Protection Agency, Research Triangle Park, NC 27711; telephone number: (919) 541-2910; fax number: (919) 541-0516; email address: melton.lula@epa.gov. For technical questions about individual alternative test method decisions, refer to the contact person identified in the individual approval document(s).

SUPPLEMENTARY INFORMATION:

I. General Information

A. Does this notice apply to me?

This notice will be of interest to entities regulated under title 40 Code of Federal Regulations (CFR) parts 59, 60, 61, 63 and 65; state, local, and tribal agencies; and the EPA Regional offices responsible for implementation and enforcement of regulations under 40 CFR parts 59, 60, 61, 63, and 65.

B. How can I get copies of this information?

You may access copies of the broadly applicable alternative test method approval documents at https://www.epa.gov/emc/broadly-applicable-approved-alternative-test-methods.

II. Background

This notice identifies broadly applicable alternative test methods that the EPA approved in 2020 under the New Source Performance Standards (NSPS), 40 CFR part 60, and the National Emission Standards for Hazardous Air Pollutants (NESHAP) programs, 40 CFR parts 61 and 63. See Table 1 of this notice for the summary of these test methods. Source owners and operators may voluntarily use these broadly applicable alternative test methods in lieu of otherwise required test methods or related testing procedures. Use of these broadly applicable alternative test methods are not intended to and should not change the applicable emission standards.

The Administrator has the authority to approve the use of alternative test methods for compliance with requirements under 40 CFR parts 60, 61, and 63. This authority is found in 40 CFR 60.8(b)(3), 61.13(h)(1)(ii), and 63.7(e)(2)(ii). Additional and similar authority can be found in 40 CFR 59.104(f) and 65.158(a)(2). The criteria for approval and procedures for submission and review of broadly applicable alternative test methods are explained in a previous Federal Register notice published at 72 FR 4257 (January 30, 2007) and located at https://www.epa.gov/emc/broadly-applicable-approved-alternative-test-methods. As explained in this notice, we will announce approvals for broadly applicable alternative test methods at https://www.epa.gov/emc/broadly-applicable-approved-alternative-test-methods as they are issued and publish an annual notice that summarizes approvals for broadly applicable alternative test methods during the preceding year.

As also explained in the January 30, 2007 notice, our approval decisions involve thorough technical reviews of numerous source-specific requests for alternatives and modifications to test methods and procedures. Based on these reviews, we have often found that these modifications or alternatives would be equally valid and appropriate to apply to other sources within a particular class, category, or subcategory. Consequently, we have concluded that where a method modification or an alternative method is clearly broadly applicable to a class, category, or subcategory of sources, it is both equitable and efficient to simultaneously approve its use for all appropriate sources and situations.

Use of approved alternative test methods are not mandatory but rather permissive. Sources are not required to employ such a method but may choose to do so in appropriate circumstances. As specified in 40 CFR 63.7(f)(5), however, a source owner or operator electing to use an alternative method for 40 CFR part 63 standards must continue to use the alternative method until otherwise authorized. Source owners or operators should, therefore, review the specific broadly applicable alternative method approval decision at https://www.epa.gov/emc/broadly-applicable-approved-alternative-test-methods before electing to employ any alternative method.

III. Approved Alternative Test Methods and Modifications to Test Methods

This notice specifies six broadly applicable alternative test methods that the EPA approved between January 1, 2021, and December 31, 2021. The alternative method decision letter/memo designation numbers, test methods affected, sources allowed to use this alternative, and method modifications or alternative methods allowed are summarized in Table 1 of this notice. A summary of approval documents was previously made available on our Technology Transfer Network between January 1, 2021, and December 31, 2021. For more detailed information, please refer to the complete copies of these approval documents available at https://www.epa.gov/emc/broadly-applicable-approved-alternative-test-methods.

As also explained in our January 30, 2007 notice, we will revisit approvals of alternative test methods in response to written requests or objections indicating that a particular approved alternative test method either should not be broadly applicable or that its use is not appropriate or should be limited in some way. Any objection to a broadly applicable alternative test method, as well as the resolution of that objection, will be announced at https://www.epa.gov/emc/broadly-applicable-approved-alternative-test-methods and in a subsequent Federal Register notice. If we decide to retract a broadly applicable test method, we will likely consider the need for an appropriate transition period for users either to request case-by-case approval or to transition to an approved method.

Richard A. Wayland,
Director, Air Quality Assessment Division.

Table 1—Approved Alternative Test Methods and Modifications to Test Methods Referenced in or Published Under Appendices in 40 CFR Parts 60, 61, and 63 Posted Between January 2021 and December 2021 ᵃ
Alternative method decision letter/ memo number | As an alternative or modification to . . . | For . . . | You may . . .
ALT-140 | Method 28R for Certification and Auditing of Wood Heaters | Sources subject to 40 CFR part 60, subpart AAA—Standards of Performance for New Residential Wood Heaters | Use the Integrated Duty Cycle Test Method for Certification of Wood Fired Stoves Using Cordwood: Measurement of Particulate Matter (PM) and Carbon Monoxide (CO) Emissions and Heating Efficiency with the modifications listed in the Agency's approval letter dated March 31, 2021.
ALT-141 | Section A6.4.1 of ASTM D6348-03 | Sources subject to 40 CFR part 60, subpart JJJJ—Standards of Performance for Stationary Spark Ignition Internal Combustion Engines and 40 CFR part 63, subpart ZZZZ—National Emission Standards for Hazardous Air Pollutants for Stationary Reciprocating Internal Combustion Engines | Use section 8.3.3 of Method 320—Measurement of Vapor Phase Organic and Inorganic Emissions by Extractive Fourier Transform Infrared (FTIR) Spectroscopy.
ALT-142 | Method 18—Measurement of Gaseous Organic Compound Emissions by Gas Chromatography or Method 25A—Determination of Total Gaseous Organic Concentration Using a Flame Ionization Analyzer | Sources subject to 40 CFR part 63, subpart O—National Emission Standards for Hazardous Air Pollutants (NESHAP): Ethylene Oxide Emission Standards for Sterilization Facilities | Use Method 320—Measurement of Vapor Phase Organic and Inorganic Emissions by Extractive Fourier Transform Infrared (FTIR) Spectroscopy with the provisos specified in the Agency's approval letter dated March 4, 2021.
ALT-143 | Method 10—Determination of Carbon Monoxide Emissions From Stationary Sources (Instrumental Analyzer Procedure) | Sources subject to 40 CFR part 63, subpart AAAA—National Emission Standards for Hazardous Air Pollutants: Municipal Solid Waste Landfills Residual Risk and Technology Review | Use the alternative method attached to the Agency's approval letter dated September 14, 2021.
ALT-144 | Method 10—Determination of Carbon Monoxide Emissions From Stationary Sources (Instrumental Analyzer Procedure) | Sources subject to 40 CFR part 63, subpart AAAA—National Emission Standards for Hazardous Air Pollutants: Municipal Solid Waste Landfills Residual Risk and Technology Review | Use the alternative method attached to the Agency's approval letter dated September 30, 2021.
ALT-145 | Method 10—Determination of Carbon Monoxide Emissions From Stationary Sources (Instrumental Analyzer Procedure) | Sources subject to 40 CFR part 63, subpart AAAA—National Emission Standards for Hazardous Air Pollutants: Municipal Solid Waste Landfills Residual Risk and Technology Review | Use the alternative method attached to the Agency's approval letter dated September 30, 2021.
ᵃ Source owners or operators should review the specific broadly applicable alternative method approval letter at https://www.epa.gov/emc/broadly-applicable-approved-alternative-test-methods before electing to employ any alternative test method.

[FR Doc. 2022-01124 Filed 1-20-22; 8:45 am]

BILLING CODE 6560-50-P